TENNESSEE VALLEY AUTHORITY

Sunshine Act Notice; Meeting No. 1516

Agency Holding the Meeting: Tennessee Valley Authority (Meeting No. 1516).

Time and Date: 2 p.m. (EST), February 22, 2000.

Place: TVA Chattanooga Office Complex Auditorium, 1101 Market Street, Chattanooga, Tennessee.

Status: Open.

Agenda: Approval of minutes of meeting held on January 27, 2000.

New Business

C—Energy

C1. Term coal contract with Cumberland River Energies, Inc., for coal supply to Bull Run Fossil Plant.

C2. Term coal contract to RAG American Coal Sales Company for coal supply to Johnsonville Fossil Plant.

C3. Delegation of authority to the Vice President, Fuel Supply and Engineering Services, to award term contracts to American Commercial Barge Line Company and Ingram Barge Line Company for barging services to Cumberland Fossil Plant.

C4. Delegation of authority to the Vice President, Fuel Supply and Engineering Services, to award contracts to Hanson Aggregates Midwest, Inc., and Mid-South Stone, Inc., for supply of limestone to Paradise and Shawnee Fossil Plants.

C5. Supplement to Contract No. P95N8A-118891-000 with the United States Enrichment Corporation for uranium enrichment services with the purchase of enriched uranium product for 50 percent of TVA's Fiscal Year 2001 requirements.

E—Real Property

E1. Grant of a permanent easement for a sewerline to the City of Decatur, Alabama, affecting approximately 0.41 acre of land on Wheeler Reservoir in Limestone County, Alabama (Tract No. XTWR-112S).

E2. Sales of a permanent easement for an access road to Ronald G. Bonnett affecting approximately 0.5 acre of TVA land on Cherokee Reservoir in Hawkins County, Tennessee (Tract No. XCK-583AR).

E3. Sale of a permanent easement for a fiber optic cable to Williams Communications, Inc., affecting approximately 3.3 acres of land on Nickajack Reservoir in Marion County, Tennessee (Tract No. XNJR-25UC).

E4. Nineteen-year commercial recreation lease to Michael and Lisa Hughes, operators of Fall Creek Dock and Campground, affecting approximately 5.5 acres of land on Cherokee Reservoir in Hamblen County, Tennessee (Tract No. XCK-582L).

E5. Abandonment of approximately 20 acres of the Watts Bar-Alco Transmission Line easement located in Blount County, Tennessee, a portion of Tract No. WBA-169 and all of Tract Nos. WBA-170 through -176.

E6. Abandonment of approximately 0.93 acre of transmission line easement identified as a portion of Tract Nos. MMAR-1, MMAR-2, MUM-6, and MUM-7 in Cherokee County, North Carolina.

E7. Abandonment of approximately 10 acres of transmission line easement identified as a portion of Tract Nos. JB-84 and -90 and all of Tract Nos. JB-84A through -89 in Hardeman County, Tennessee.

Information Items

1. Recommendations resulting from the 64th Annual Wage Conference, 1999—Construction Project Agreement (Hourly) Wage Rates and Annual Teamster Wage Rates.

2. Recommendations resulting from the 64th Annual Wage Conference, 1999—Annual Trades and Labor Agreement Wage Rates.

3. Amendment to the Rules and Regulations of the TVA Retirement System to permit certain rehired employees to participate in the cash balance structure of the retirement system.

For more information: Please call TVA Public Relations at (423) 632-6000, Knoxville, Tennessee. Information is also available at TVA's Washington Office (202) 898-2999.

Dated: February 15, 2000.
Edward S. Christenbury,
General Counsel and Secretary.

[FR Doc. 00-4062 Filed 2-16-00; 11:45 am]

BILLING CODE 8120-08-M